DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of January 18 through January 29, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-71,114; Engineered Machined Products, Inc., Greenfield Operations Division, Greenfield, IN May 19, 2008

TA-W-71,702A; Geiger International, Inc., Herman Miller, Inc., Atlanta, GA. July 15, 2008

TA-W-71,702B; Integrated Metal Technology, Inc., Meridan, Inc./Herman Miller, Inc., Spring Lake, MI July 15, 2008

TA-W-71,702C; Herman Miller, Inc., Apple One ES, Carlton Staffing Acsys, Adecco USA, Zeeland, MI July 15, 2008

TA-W-71,702D; Herman Miller, Inc., Adecco USA, Aerotek, Inc., Broadview Product Development, Holland, MI July 15, 2008

TA-W-71,702; Brandrud Furniture, Inc., Herman Miller, Inc., Auburn, WA July 15, 2008

TA-W-71,785; Mantosea Inc., d/b/a/Eagle Electric Work at US Steel Tubular, Dangerfield, TX. July 13, 2008

TA-W-72,138; Manitowoc FSG Operations, Manitowoc Ice, Manitowoc, WI August 24, 2008

TA-W-72,751; New Mather Metals, Inc., Suspension Division., NHK Spring Co., Toledo, OH. October 20, 2008

TA-W-72,800; Cord Crafts, LLC, Wharton, NJ November 6, 2008

TA-W-72,847; Hanesbrands, Inc., SFI, Sanford, NC November 10, 2008

TA-W-72,119; Corporate Tax Consultants, LLC, Ford Motor Company, Novi, MI August 24, 2008

TA-W-70,961A; LSI Corporation, Allentown, PA May 29, 2008

TA-W-70,961; LSI Corporation, Allentown, PA May 29, 2008

TA-W-71,342A; ArborCraft, LLC, Harris Wood Holding, Aerotek Commericial, Montpelier, IN. June 19, 2008

TA-W-71,342; ArborCraft, LLC, Harris Wood Holding, Aerotek Commericial, Johnson City, TN June 19, 2008

TA-W-71,347; Guilford Performance Textiles, Greensboro Division, Greensboro, NC June 5, 2008

TA-W-71,602; Cooper Tools—Sumter, Sumter, SC July 7, 2008

TA-W-71,730; Carolina Technical Plastics Corporation, Wirthwein Ag, Leased Workers of Holden Temporaries, Search America, New Bern, NC July 16, 2008

TA-W-71,921; Texas Tubular Products, Reliant NDT Systems and Services, Inc., Lonestar, TX August 4, 2008

TA-W-72,274; Codi, Inc., Codi Holding, Inc., Harrisburg, PA September 1, 2008

TA-W-72,294; Kimball Office, Spartan Staffing and Action Temp Services, Jasper, IN September 14, 2008

TA-W-72,524; Erie Engineering/Automation, Clinton Township, MI October 1, 2008

TA-W-72,655; Welco Lumber Company, JMF Company, Inc. and Knighthawke Security, Naples, ID October 22, 2008

TA-W-72,815; Creekside Mushrooms, Ltd., Adecco Employment Services, Alternative Staffing, Worthington, PA November 9, 2008

TA-W-72,854; Computer Task Group, Inc. (CTG), Indianapolis, In October 28, 2008

TA-W-72,863; Baker Furniture, Connelly Springs, NC November 6, 2008

TA-W-70,382; Cadre Steel Detailing, Inc., Kalama, WA. May 19, 2008

TA-W-71,610; Chattanooga Group Inc., Division of DJO Inc., Leased workers of Express Services, and Encore Medical, Hixson, TN July 2, 2008

TA-W-71,994; Seaford Clothing-Hart Schaffner, Rock Island, IL August 11, 2008

TA-W-72,315; Nova Knits, Inc., New York, NY September 14, 2008

The following certifications have been issued. The requirements of Section 222(a)(2)(B) (shift in production or services) of the Trade Act have been met.

TA-W-70,994; Hach, Grants Pass, OR June 4, 2008

TA-W-71,193; Tyler Refrigeration Company, Carrier Commercial Refrigeration, Leased From Manpower, Kelly Services, Niles, MI June 10, 2008

TA-W-71,370A; Conmed Corporation, Leased Workers from Kelly Services and Staffworks, Utica, NY June 22, 2008

TA-W-71,370; Conmed Corporation, Leased Workers from Kelly Services and Staffworks, Utica, NY June 22, 2008

TA-W-71,465; Judith Leiber, LLC, Leiber Holdings LLC, Secaucus, NJ June 29, 2008

TA-W-71,482; Trane, Ingersoll Rand/Aerotek, Express Personnel, Select, Pueblo, CO June 22, 2008

TA-W-71,565; Marinco Electrical Group, Key Components, Leased Workers From Enterforce, Napa, CA July 3, 2008

TA-W-71,593A; UFE, Inc., Stillwater, MN July 7, 2008

TA-W-71,593B; UFE, Inc., Dresser, WI July 7, 2008

TA-W-71,593C; UFE, Inc., Dresser, WI July 7, 2008

TA-W-71,593; UFE, Inc., Osceola, WI July 7, 2008

TA-W-71,710; Arkema, Inc., Birdsboro, PA July 10, 2008

TA-W-72,075A; Assembly & Test Worldwide, Saginaw, MI August 10, 2008

TA-W-72,075B; Assembly & Test Worldwide, Lebanon, MO August 10, 2008

TA-W-72,075C; Assembly & Test Worldwide, Dayton, OH August 10, 2008

TA-W-72,075; Assembly & Test Worldwide, Livonia, MI August 10, 2008

TA-W-72,135; International Automotive Components—North America, Strasburg, VA June 13, 2008

TA-W-72,150; Dell Products, LP ? Parmer North Location, Dell, Inc., Leased workers Belcan Services Group, Hawkins Associates, Round Rock, TX August 24, 2008

TA-W-72,443; Parker Paint Manufacturing Company, Inc., Tacoma, WA September 17, 2008

TA-W-72,563A; Fypon, Ltd., Leased Workers from JOBI USA, Archbold, OH October 9, 2008

TA-W-72,563; Fypon, Ltd., Parkersburg, WV October 9, 2008

TA-W-72,585; Whirlpool Corporation, Evansville Division, Evansville, IN December 6, 2008

TA-W-72,688; P.S. Stix, Inc., Costa Mesa, CA October 6, 2008

TA-W-72,732; Federal-Mogul, Michigan City, IN November 21, 2009

TA-W-72,763; Thermo Fisher Scientific—Matrix Technologies, Hudson, NH October 9, 2008

TA-W-72,872, Moog, Inc., Nexus, Everett, WA November 16, 2008

TA-W-72,885; Logan Industries, Inc., Spokane, WA November 17, 2008

TA-W-72,904A; Honeywell International, Inc., Automation Control Solutions, Sensing and Control, Leased Workers from Manpower, Springfield, IL November 13, 2008

TA-W-72,904; Honeywell International, Inc., Automation Control Solutions, Sensing and Control, Leased Workers from Manpower, Spring Valley, IL November 13, 2008

TA-W-73,123; Garland Commercial Industries, LLC, Spherion Staffing Agency, Freeland, PA December 17, 2008

TA-W-73,155; Air Cruisers Company, Liberty, MS December 21, 2008

TA-W-73,157; FCI USA, LLC, Manpower, Inc., Mount Union, PA December 22, 2008

TA-W-72,174; Johnson Controls, Inc., Building Efficiency Div., Leased Workers of Express Employment Professionals, Roanoke, VA August 28, 2008

TA-W-71,625; Eaton Corporation, Fluid Power Group, Hydraulics Div., Manpower, Shawnee, OK July 1, 2008

TA-W-73,026; Sheridan Books, Inc., Phoenix Services, Kelly Service, Action Associates, Ann Arbor, MI November 25, 2008

TA-W-70,058A; Cadence Design Systems, Inc., Custom Integrated Circuit Design, West Valley, Tempe, AZ May 18, 2008

TA-W-70,058AA; Cadence Design Systems, Inc., Global Customer Support (GCS) Division, Columbia, MD May 18, 2008

TA-W-70,058B; Cadence Design Systems, Inc., Custom Integrated Circuit Design, West Valley, Arden Hills, MN May 18, 2008

TA-W-70,058BB; Cadence Design Systems, Inc., Global Customer Support (GCS) Division, Endicott, NY May 18, 2008

TA-W-70,058C; Cadence Design Systems, Inc., Custom Integrated Circuit Design, West Valley, Austin, TX May 18, 2008

TA-W-70,058CC; Cadence Design Systems, Inc., Global Customer Support (GCS) Division, Irvine, CA May 18, 2008

TA-W-70,058D; Cadence Design Systems, Inc., Custom Integrated Circuit Design, West Valley, Bellevue, WA. May 18, 2008

TA-W-70,058DD; Cadence Design Systems, Inc., Global Customer Support (GCS) Division, Lake Katrine, NY. May 18, 2008

TA-W-70,058E; Cadence Design Systems, Inc., Custom Integrated Circuit Design, West Valley, Berkeley, CA. May 18, 2008

TA-W-70,058EE; Cadence Design Systems, Inc., Global Customer Support (GCS) Division, Louisville, CO. May 18, 2008

TA-W-70,058F; Cadence Design Systems, Inc., Custom Integrated Circuit Design, West Valley, Chelmsford, MA. May 18, 2008

TA-W-70,058FF; Cadence Design Systems, Inc., Global Customer Support (GCS) Division, Melbourne, FL. May 18, 2008

TA-W-70,058G; Cadence Design Systems, Inc., Custom Integrated Circuit Design, West Valley, Irvine, CA. May 18, 2008

TA-W-70,058GG; Cadence Design Systems, Inc., Global Customer Support (GCS) Division, Plano, TX. May 18, 2008

TA-W-70,058H; Cadence Design Systems, Inc., Custom Integrated Circuit Design, West Valley, Los Gatos, CA. May 18, 2008

TA-W-70,058HH; Cadence Design Systems, Inc., Global Customer Support (GCS) Division, Tempe, AZ. May 18, 2008

TA-W-70,058I; Cadence Design Systems, Inc., Custom Integrated Circuit Design, West Valley, Louisville, CO. May 18, 2008

TA-W-70,058II; Cadence Design Systems, Inc., Global Customer Support (GCS) Division, Tigard, CO. May 18, 2008

TA-W-70,058J; Cadence Design Systems, Inc., Custom Integrated Circuit Design, West Valley, Melbourne, FL. May 18, 2008

TA-W-70,058JJ; Cadence Design Systems, Inc., Global Customer Support (GCS) Division, Tinton Falls, NJ. May 18, 2008

TA-W-70,058K; Cadence Design Systems, Inc., Custom Integrated Circuit Design, West Valley, New Providence, NJ. May 18, 2008

TA-W-70,058L; Cadence Design Systems, Inc., Custom Integrated Circuit Design, West Valley, Pittsburgh, PA. May 18, 2008

TA-W-70,058M; Cadence Design Systems, Inc., Custom Integrated Circuit Design, West Valley, Plano, TX. May 18, 2008

TA-W-70,058N; Cadence Design Systems, Inc., Custom Integrated Circuit Design, West Valley, Tigard, OR. May 18, 2008

TA-W-70,058O; Cadence Design Systems, Inc., Silicon Package Board (SPB) Division, Chelmsford, MA. May 18, 2008

TA-W-70,058P; Cadence Design Systems, Inc., Silicon Package Board (SPB) Division, Austin, TX. May 18, 2008

TA-W-70,058Q; Cadence Design Systems, Inc., Silicon Package Board (SPB) Division, Irvine, CA. May 18, 2008

TA-W-70,058R; Cadence Design Systems, Inc., Silicon Package Board (SPB) Division, San Diego, CA. May 18, 2008

TA-W-70,058S; Cadence Design Systems, Inc., Silicon Package Board (SPB) Division, San Jose, CA. May 18, 2008

TA-W-70,058T; Cadence Design Systems, Inc., Silicon Package Board (SPB) Division, Tigard, OR May 18, 2008

TA-W-70,058U; Cadence Design Systems, Inc., Global Customer Support (GCS) Division, Austin, TX May 18, 2008

TA-W-70,058V; Cadence Design Systems, Inc., Global Customer Support (GCS) Division, Arden Hills, MN. May 18, 2008

TA-W-70,058W; Cadence Design Systems, Inc., Global Customer Support (GCS) Division, San Jose, CA. May 18, 2008

TA-W-70,058X; Cadence Design Systems, Inc., Global Customer Support (GCS) Division, Bellevue, WA. May 18, 2008

TA-W-70,058Y; Cadence Design Systems, Inc., Global Customer Support (GCS) Division, Cary, NC. May 18, 2008

TA-W-70,058Z; Cadence Design Systems, Inc., Global Customer Support (GCS) Division, Chelmsford, MA. May 18, 2008

TA-W-70,058; Cadence Design Systems, Inc., Custom Integrated Circuit Design, West Valley, San Jose, CA. May 18, 2008

TA-W-70,557A; Tricor Direct, Inc./Credit and Collection Group, dba Seton Identification Products, Inc./Brady Corp., Branford, CT. May 18, 2008

TA-W-70,557; Tricor Direct, Inc./Master Data Group, dba Seton Identification Products, Inc./Brady Corp., Branford, CT. May 18, 2008

TA-W-70,948; Chrysler Group, LLC, Formerly Chrysler, LLC/Plymouth Road Office Complex, Detroit, MI. May 27, 2008

TA-W-71,013; Mincom, Inc., Leased Workers of the Advocates, Greenwood Village, CO. June 1, 2008

TA-W-71,085; International Business Machines Corporation (IBM), Global Technology Services/Business Process Delivery Division, Tulsa, OK. May 3, 2009

TA-W-71,221; Eveden, Inc., Monroe, GA. June 4, 2008

TA-W-71,298; Key Safety Systems, Inc., Leased Workers of Global Technology Associates, Sterling Heights, MI. June 8, 2008

TA-W-71,358A; Manpower, Inc., National Account OPS Div. at IBM, Somers, NY. June 18, 2008

TA-W-71,358B; Manpower, Inc., National Account OPS Div. at IBM, Poughkeepsie, NY. June 18, 2008

TA-W-71,358C; Manpower, Inc., National Account OPS Div. at IBM—Endicott, NY, Endicott, NY. June 18, 2008

TA-W-71,358D; Manpower, Inc., National Account OPS Div. at IBM—Armonk, NY, Armonk, NY. June 18, 2008

TA-W-71,358E; Manpower, Inc., National Account OPS Div. at IBM, Middletown, NY. June 18, 2008

TA-W-71,358F; Manpower, Inc., National Account OPS Div. at IBM, Fishkill, NY. June 18, 2008

TA-W-71,358G; Manpower, Inc., National Account OPS Div. at IBM—Austin, TX, Austin, TX. June 18, 2008

TA-W-71,358H; Manpower, Inc., National Account OPS Div. at IBM—Atlanta, GA, Atlanta, GA. June 18, 2008

TA-W-71,358I; Manpower, Inc., National Account OPS Div. at IBM—Boulder, CO, Boulder, CO. June 18, 2008

TA-W-71,358J; Manpower, Inc., National Account OPS Div. at IBM—Cambridge, MA, Cambridge, MA. June 18, 2008

TA-W-71,358K; Manpower, Inc., National Account OPS Div. at IBM—Research Triangle Park, NC, Research Triangle Park, NC. June 18, 2008

TA-W-71,358L; Manpower, Inc., National Account OPS Div. at IBM—Rochester, MN, Rochester, MN. June 18, 2008

TA-W-71,358M; Manpower, Inc., National Account OPS Div. at IBM—San Jose, CA, San Jose, CA. June 18, 2008

TA-W-71,358; Manpower, Inc., National Account OPS Div. at IBM, Hopewell Junction, NY. June 18, 2008

TA-W-71,497; Telerx Marketing, Inc., Tier 1 Tech Helpdesk Support Div., El Paso, TX. June 29, 2008

TA-W-71,692; Pinehurst Manufacturing, Inc., Albemarle, NC. July 14, 2008

TA-W-72,181; National Payment Network, Workforce Systems, El Segundo, CA. August 21, 2008

TA-W-72,266; TNS Custom Research, Inc., Coding and Entry Services Division, Northwood, OH. August 28, 2008

TA-W-72,346; Finisar Corporation, Workforce Logic, Sunnyvale, CA. September 17, 2008

TA-W-72,382; SDI Media USA, Inc., Culver City, CA. September 22, 2008

TA-W-72,626; Flextronics International USA, Inc., Aerotek, Durham, NC. October 19, 2008

TA-W-72,784; RadlSys Corporation, Leased Workers from Employment Trends, Boca Raton, FL. November 3, 2008

TA-W-72,867; Hewlett Packard, Vancouver Site IT, Vancouver, WA. November 8, 2008

TA-W-72,873A; RBS Citizens, N.A., Business Services, Manpower and Randstad, Riverside, RI. November 16, 2008

TA-W-72,873B; RBS Citizens, N.A., Business Services, Manpower and Randstad, Cranston, RI. November 16, 2008

TA-W-72,873C; RBS Citizens, N.A., Business Services, Manpower and Randstad, Medford, MA. November 16, 2008

TA-W-72,873D; RBS Citizens, N.A., Business Services, Manpower and Randstad, Cleveland, OH. November 16, 2008

TA-W-72,873E; RBS Citizens, N.A., Business Services, Manpower and Randstad, Jersey City, NJ. November 16, 2008

TA-W-72,873F; RBS Citizens, N.A., Business Services, Manpower and Randstad, Philadelphia, PA. November 16, 2008

TA-W-72,873; RBS Citizens, N.A., Business Services, Manpower and Randstad, Riverside, RI. November 16, 2008

TA-W-72,922A; Boehringer-Ingelheim USA Corporation, Revenue Operations, Ridgefield, CT. November 19, 2008

TA-W-72,922; Boehringer-Ingelheim Pharmaceuticals, Inc., Strategic Sourcing Department, Ridgefield, CT. November 19, 2008

TA-W-70,352; Redding Record Searchlight, Graphic Design Team, Redding, CA. May 18, 2008

TA-W-71,081; Wells Fargo and Company, FKA Wachovia Bank, NA, Retail Credit Fulfillment Processing, Reading, PA. June 8, 2008

TA-W-71,414; Tata Technologies, Inc., Tata Technologies Limited, Novi, MI. June 26, 2008

TA-W-72,235; Albany International Research Company, Albany International Corporation, Mansfield, MA. September 2, 2008

TA-W-72,933; Hewlett Packard, Hewlett Packard—Enterprise Business Services/Formerly Electronic Data System, Pontiac, MI. October 30, 2008

TA-W-73,016A; News America Marketing, LLC, News America, Inc., New York, NY. December 2, 2008

TA-W-73,016; News America Marketing, LLC, News America, Inc., Wilton, CT. December 2, 2008

TA-W-73,117; New Hampshire Oncology-Hematology, Medical Transcription Department, Hooksett, NH. December 15, 2008

The following certifications have been issued. The requirements of Section 222(b) (adversely affected workers in public agencies) of the Trade Act have been met.

None.

The following certifications have been issued. The requirements of Section 222(c) (supplier to a firm whose workers are certified eligible to apply for TAA) of the Trade Act have been met.

TA-W-71,175; Resinoid Engineering Corporation, Hebron, OH. June 4, 2008

TA-W-71,524; Fluid Routing Solutions, Big Rapids, MI. June 3, 2008

TA-W-71,902A; Defiance Metal Products of Texas, Aerotek, Inc., Adecco Linkstaff, Express Personnel, Tyler, TX. July 23, 2008

TA-W-71,902; Defiance Metal Products of Texas, Aerotek, Inc., Adecco Linkstaff, Express Personnel, Grand Prairie, TX. July 23, 2008

TA-W-72,034; Precision Source, Smithfield, RI. August 11, 2008

TA-W-72,739; U.S. Steel Tubular Products, Inc., Wheeling Machine Products Division, Hughes Springs, TX. November 2, 2008

TA-W-72,761; Waterfowl Packaging, LLC, Fort Payne, AL. October 28, 2008

TA-W-72,937; Severstal Dearborn, Inc., Severstal No. America, Perot System, Entech, Human, Dearborn, MI. October 30, 2008

TA-W-70,025; Baker Furniture, Southern Distribution Center, Leased Workers From Manpower, Hickory, NC. April 23, 2008

TA-W-71,752; Metal Cladding, Inc., Lockport, NY. June 25, 2008

TA-W-72,973; Marvell Semiconductor, Inc., Printer Group/Icon Professional Services, Boise, ID. November 25, 2008

The following certifications have been issued. The requirements of Section 222(c) (downstream producer for a firm whose workers are certified eligible to apply for TAA) of the Trade Act have been met.

TA-W-71,997; Trans Apparel-Hartmarx, Michigan City, IN. August 11, 2008

The following certifications have been issued. The requirements of Section 222(f) (firms identified by the International Trade Commission) of the Trade Act have been met.

TA-W-71,495A; IPSCO Koppel Tubulars Corporation, TMK IPSCO North America, Ambridge, PA. December 7, 2008

TA-W-71,495; IPSCO Koppel Tubulars Corporation, TMK IPSCO North America, Beaver Falls, PA. December 7, 2008

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-72,321; PCA Electronics, Inc., Drafting and Document Control Department, North Hills, CA.

TA-W-73,129; Bruce Development, DBA Kenrow Plastics, Port Richey, FL.

The investigation revealed that the criteria under paragraphs (a)(2)(A)(i) (decline in sales or production, or both) and (a)(2)(B) (shift in production or services to a foreign country) of section 222 have not been met.

None.

The investigation revealed that the criteria under paragraphs(a)(2)(A) (increased imports) and (a)(2)(B) (shift in production or services to a foreign country) of section 222 have not been met.

TA-W-70,110; Columbia Forest Products, Inc., Presque Isle Division, Presque Isle, ME.

TA-W-70,331; DRS Laurel Technologies, Johnstown, PA.

TA-W-70,549; CMI Equipment and Engineering, Inc., Augres, MI.

TA-W-70,840; Thomasville Furniture Industries, Inc., Plant #8, Hickory, NC.

TA-W-70,868; Davis-Standard, LLC, Converting Systems Division, Somerville, NJ.

TA-W-71,250A; T and S Hardwoods, Inc., Alto Division, Alto, GA.

TA-W-71,250; T and S Hardwoods, Inc., Milledgeville Division, Milledgeville, GA.

TA-W-71,623; Eagle of New Bedford, Inc., New Bedford, MA.

TA-W-71,861; Contour Plastics, Simply Staffing and Firstsite Staffing, Baldwin, WI.

TA-W-72,009; Neopost (Mailroom Technologies), Milford, CT.

TA-W-72,573; F.L. Smithe Machine Company, Paper Converting Machine Company, Duncansville, PA.

TA-W-72,766; Infor Global Solutions (Michigan), Inc., Chicago, IL.

TA-W-72,883; General Electric, Transportation Division, Grove City, PA.

TA-W-70,334; DHL Express (USA), Inc., DPWN Holdings (USA), Inc., San Francisco, CA.

TA-W-70,524; Hewlett-Packard Company, Sales and Finance Divisions, Colorado Springs, CO.

TA-W-70,731; Trim Masters, Inc., Harrodsburg, KY.

TA-W-71,029; Richline Group, Inc., Leased Workers from Titan Agency, Mount Vernon, NY.

TA-W-71,600A; Gemological Institute of America, New York, NY.

TA-W-71,600; Gemological Institute of America, Carlsbad, CA.

TA-W-71,878; Electronic Data Systems, Manufacturing Ind. Work On-Site at Xerox in El Segundo, El Segundo, CA.

TA-W-71,932; Greenstar Pittsburgh, LLC, A Division of Greenstar, LLC, Pittsburgh, PA.

TA-W-71,996; Mizar Motors, Toledo, OH.

TA-W-72,118; Whitey's Inc., Mansfield, OH.

TA-W-72,183; Chicago & Midwest Regional Joint Board, Chicago, IL.

TA-W-72,240; Daniel Measurement and Control, Inc., Statesboro, GA.

TA-W-72,281; Hardwoods of Morganton, Inc., Morganton, NC.

TA-W-72,383; Northwest Machining and Manufacturing, Meridian, ID.

TA-W-72,682; Toshiba Logistics America, Inc., Lebanon, TN.

TA-W-72,725; Freescale Semiconductor, Inc., Computer Integrated Manufacturing Group, Austin, TX.

TA-W-72,728; Keiper, LLC, Troy, MI.

TA-W-71,781; Rapid Granulator, Inc., Rapid Granulator AB/Sewicklery Capital, Inc., Rockford, IL.

The investigation revealed that the criteria under paragraphs (b)(2) and (b)(3) (public agency acquisition of services from a foreign country) of section 222 have not been met.

None.

The investigation revealed that criteria of Section 222(c)(2) has not been met. The workers' firm (or subdivision) is not a Supplier to or a Downstream Producer for a firm whose workers were certified as eligible to apply for TAA.

None.

I hereby certify that the aforementioned determinations were issued during the period of January 18 through January 29, 2010. Copies of these determinations are available for inspection in Room N-5428, U.S. Department of Labor, 200 Constitution Avenue, NW., Washington, DC 20210 during normal business hours or will be mailed to persons who write to the above address.

Dated: February 22, 2010.
Elliott S. Kushner,
Certifying Officer, Division of Trade Adjustment Assistance.

[FR Doc. 2010-4579 Filed 3-4-10; 8:45 am]

BILLING CODE P